DEPARTMENT OF COMMERCE

National Oceanic and Atmospheric Administration

50 CFR Part 679

[I.D. 071603A]

RIN 0648-AR31

Fisheries of the Exclusive Economic Zone Off Alaska; Allocation of Pacific Cod Among Fixed Gear Sectors

AGENCY: National Marine Fisheries Service (NMFS), National Oceanic and Atmospheric Administration (NOAA), Commerce.

ACTION: Notice of availability; request for comments.

SUMMARY: The North Pacific Fishery Management Council (Council) has submitted Amendment 77 to the Fishery Management Plan for the Groundfish Fishery of the Bering Sea and Aleutian Islands Area (FMP). This amendment would continue to apportion the Bering Sea and Aleutian Islands Management Area (BSAI) Pacific cod total allowable catch (TAC) among the fixed gear sectors. In addition, the amendment would further split the pot sector share of the TAC between pot catcher/processors and pot catcher vessels. Amendment 77 is intended to maintain the stability of the fixed gear Pacific cod fishery. Comments from the public are welcome.

DATES: Comments on Amendment 77 must be submitted by September 22, 2003.

ADDRESSES: Comments on the FMP amendments should be sent to Sue Salveson, Assistant Regional Administrator, Sustainable Fisheries Division, Alaska Region, NMFS, P.O. Box 21668, Juneau, AK, 99802, Attn: Lori Durall, or delivered to room 420 of the Federal Building, 709 West 9th Street, Juneau, AK. Comments may also be sent via facsimile (fax) to 907-586-7557. Comments will not be accepted if submitted via e-mail or Internet. Copies of Amendment 77 and the Environmental Assessment/Regulatory Impact Review/Initial Regulatory Flexibility Analysis (EA/RIR/IRFA) for the amendment may be obtained from the same address.

FOR FURTHER INFORMATION CONTACT: Nina Mollett, 907-586-7462 or Nina.Mollett@noaa.gov.

SUPPLEMENTARY INFORMATION: The Magnuson-Stevens Fishery Conservation and Management Act (Magnuson-Stevens Act) requires that each Regional Fishery Management Council submit any FMP amendment it prepares to NMFS for review and approval, disapproval, or partial approval. The Magnuson-Stevens Act also requires that NMFS, upon receiving an FMP amendment, immediately publish a notice in the Federal Register that the amendment is available for public review and comment.

Amendment 77 was adopted by the Council at its June 2003 meeting. If approved by NMFS, this amendment would replace Amendment 64, which expires on December 31, 2003. Amendment 77 would allocate the 51 percent fixed gear share of the BSAI TAC among its four components as follows:

• 80 percent to catcher/processors using hook-and-line gear;

• 0.3 percent to catcher vessels using hook-and-line gear;

• 15 percent to catcher vessels using pot gear;

• 3.3 percent to pot catcher/processors using pot gear; and

• 1.4 percent to catcher vessels under 60 ft length overall (LOA), using either pots or hook-and-line gear.

This represents a change from the status quo because the existing 18.3 percent allocation to pot vessels would be split between the two sectors of that fleet, 15 percent to pot catcher vessels and 3.3 percent to pot catcher/processor vessels. This division would be based on each sector's historical catch between 1998 and 2001, and reflects the growth in the pot catcher vessel sector in recent years.

Specific provisions for the reallocation of unharvested amounts of these allocations to other vessels using hook-and-line or pot gear would continue to be set forth in regulations.

Public comments are being solicited on the amendment through the end of the comment period stated in this NOA; a proposed rule that would implement the amendment may be published in the Federal Register for public comment following NMFS' evaluation under the Magnuson-Stevens Act procedures. Public comments on the proposed rule must be received by the end of the comment period on the amendment in order to be considered in the approval/disapproval decision on the amendment. All comments received by the end of the comment period on the amendment, whether specifically directed to the amendment or to the proposed rule, will be considered in the approval/disapproval decision; comments received after that date will not be considered in the approval/disapproval decision on the amendment. To be considered, comments must be received not just postmarked or otherwise transmitted by close of business on the last day of the comment period specified in this NOA.

Dated: July 17. 2003.
John H. Dunnigan,
Director, Office of Sustainable Fisheries, National Marine Fisheries Service.

[FR Doc. 03-18617 Filed 7-21-03; 8:45 am]

BILLING CODE 3510-22-S